DEPARTMENT OF HEALTH AND HUMAN SERVICES

National Institutes of Health

Office of Dietary Supplements VDSP Commutability Study 2

SUMMARY: NIH Office of Dietary Supplements (ODS) and the National Institute of Standards and Technology (NIST), in collaboration with the College of American Pathologists (CAP) and Vitamin D External Quality Assessment Scheme (DEQAS), announce that as part of the Vitamin D Standardization Program (VDSP), they are recruiting laboratories to participate in a study of the commutability of pooled serum samples used in assays to measure total 25-hydroxyvitamin D [25(OH)D].

DATES: The expected start date for the study is June 2015.

ADDRESSES: For more information about the study and to let us know if you are interested in participating, please contact us at: vdsp@mail.nih.gov.

FOR FURTHER INFORMATION CONTACT: Drs. Johanna Camara, NIST, and Christopher Sempos, ODS, Director and Co-Director, respectively, for the VDSP Commutability Study 2. Email: VDSP@mail.nih.gov.

SUPPLEMENTARY INFORMATION: The objective of the study is to promote the standardized measurement of total 25(OH)D by evaluating the commutability of NIST Standard Reference Materials® (SRM) used as “trueness” controls and the materials used in the major Performance Testing/External Quality (PT/EQA) programs administered by CAP and DEQAS. Who Can Participate: (1) All commercial manufacturers of 25(OH)D assays (requests from manufacturers with assays in development will be considered); (2) Clinical and research laboratories using a commercial assay platform; (3) Laboratories for national/subnational nutrition surveys; and (4) Laboratories using in-house developed assays.

For details about the study design and time lines, see the recently published paper in the February 2015 edition of Clinical Laboratory News, (https://www.aacc.org/publications/cln/articles/2015/february/vitamin-d-commutability-study).

Dated: March 24, 2015.
Lawrence A. Tabak,
Deputy Director, National Institutes of Health.

[FR Doc. 2015-07326 Filed 3-31-15; 8:45 am]

BILLING CODE 4140-01-P